DEPARTMENT OF COMMERCE

Submission For OMB Review; Comment Request

DOC has submitted to the Office of Management and Budget (OMB) for clearance the following proposal for collection of information under the provisions of the Paperwork Reduction Act (44 U.S.C. chapter 35).

Agency: U.S. Census Bureau.

Title: Former Field Representative and Enumerator Exit Questionnaire.

Form Number(s): BC-1294, BC-1294(D).

Agency Approval Number: 0607-0404.

Type of Request: Revision of a currently approved collection.

Burden: 84 hours.

Number of Respondents: 645.

Avg Hours Per Response: BC-1294—7 minutes, BC-1294(D)—10 minutes.

Needs and Uses: Field interviewers are the foundation of U.S. Census Bureau data collection programs. Retention of trained field interviewing staff is a major concern for the Census Bureau because of both the monetary costs associated with employee turnover, as well as the potential impact on data quality. High turnover among interviewers can result in a reduction in the quality of data collected, as well as increases in the cost of collecting data. In a continuous effort to devise policies and practices aimed at reducing turnover among interviewers, the Census Bureau collects data on the reasons interviewers leave the Census Bureau. The exit questionnaires (Forms BC-1294 and BC-1294(D)) are used to collect data from a sample of former survey interviewers (field representatives) and decennial census interviewers (listers and enumerators).

The purpose of the exit questionnaires is to determine the reasons for interviewer turnover and what the Census Bureau might have done, or can do to influence interviewers not to leave. As the demographics of our labor force, the nature of the surveys conducted, and the environment in which surveys take place continue to change, it is important that we continue to examine the interviewers' concerns. Information provided by respondents to the exit questionnaire provides insight on the measures the Census Bureau might take to decrease turnover, and is useful in helping to determine if the reasons for interviewer turnover appear to be systemic or localized.

The exit questionnaires seek reasons interviewers quit, inquire about motivational factors that would have kept the interviewers from leaving, identify training program strengths and weaknesses as they impact on the decision to quit, identify supervisory style strengths and weaknesses as they impact on the decision to leave, identify the impact of automation on the decision to leave, and identify the impact of pay and other working conditions on the interviewer's decision to leave the job. The exit questionnaires have been shown to be useful and we want to continue their use.

The information collected via the Field Representative (BC-1294) and Enumerator (BC-1294D) Exit Questionnaires will help the Census Bureau develop plans to reduce turnover in its current survey and decennial interviewing staff. This, in turn, allows for better informed decisions regarding the field workforce and implementation of more effective pay plans, selection procedures, interviewer training, and retention strategies for both current and decennial interviewers.

Affected Public: Individuals.

Frequency: One time.

Respondent's Obligation: Voluntary.

Legal Authority: Title 13 U.S.C., Section 23; Title 5 U.S.C., Section 3101.

OMB Desk Officer: Susan Schechter, (202) 395-5103.

Copies of the above information collection proposal can be obtained by calling or writing Diana Hynek, Departmental Paperwork Clearance Officer, (202) 482-0266, Department of Commerce, room 6625, 14th and Constitution Avenue, NW., Washington, DC 20230 (or via the Internet at dhynek@doc.gov).

Written comments and recommendations for the proposed information collection should be sent within 30 days of publication of this notice to Susan Schechter, OMB Desk Officer either by fax (202-395-7245) or e-mail (susan_schechter@omb.eop.gov).

Dated: April 15, 2005.
Madeleine Clayton,
Management Analyst, Office of the Chief Information Officer.

[FR Doc. 05-7770 Filed 4-18-05; 8:45 am]

BILLING CODE 3510-07-P